DEPARTMENT OF COMMERCE

National Oceanic and Atmospheric Administration

Evaluation of National Estuarine Research Reserve; Public Meeting; Request for Comments

AGENCY: Office for Coastal Management, National Ocean Service, National Oceanic and Atmospheric Administration, Department of Commerce.

ACTION: Notice of public meeting and opportunity to comment.

SUMMARY: The National Oceanic and Atmospheric Administration (NOAA), Office for Coastal Management will hold a public meeting to solicit comments on the performance evaluation of the South Slough National Estuarine Research Reserve.

DATES: NOAA will consider all written comments received by Friday, April 22, 2022. A virtual public meeting will be held on Tuesday April 12, 2022 at 1 p.m. PT.

ADDRESSES: Comments may be submitted by one of the following methods:

• Email: Becky Allee, Evaluator, NOAA Office for Coastal Management at Becky.Allee@noaa.gov.

• Public Meeting: Provide oral comments during the virtual public meeting on April 12, 2022 by registering as a speaker at https://forms.gle/dWnJGc6TfeaMDNGg6. Please register by Monday, April 11, 5 p.m. PT. Upon registration, a confirmation email will be sent. The line-up of speakers will be based on the date and time of registration. One hour prior to the start of the meeting on April 12, 2022, an emailed will be sent out with a link to the public meeting and information about participating.

• Comments received are considered part of the public record and may be publicly accessible. Any personal information (e.g., name, address) submitted voluntarily by the sender may also be publicly accessible. NOAA will accept anonymous comments.

• Public comments may be provided during the virtual public meeting. To participate in the virtual public meeting, registration is required by Monday, April 11, 2022, at 5 p.m. PT.

FOR FURTHER INFORMATION CONTACT: Becky Allee, Evaluator, NOAA Office for Coastal Management at Becky.Allee@noaa.gov or phone at 601-564-8891. Copies of the previous evaluation findings, reserve management plan, and reserve site profile may be viewed and downloaded at http://coast.noaa.gov/czm/evaluations. A copy of the evaluation notification letter and most recent progress report may be obtained upon request by contacting Becky Allee.

SUPPLEMENTARY INFORMATION: Section 312 of the Coastal Zone Management Act (CZMA) requires NOAA to conduct periodic evaluations of federally approved national estuarine research reserves. The process includes one or more public meetings, consideration of written public comments, and consultations with interested Federal, State, and local agencies and members of the public. During the evaluation, NOAA will consider the extent to which the state of Oregon has met the national objectives, adhered to the reserve's management plan approved by the Secretary of Commerce, and adhered to the terms of financial assistance under the CZMA. When the evaluation is completed, NOAA's Office for Coastal Management will place a notice in the Federal Register announcing the availability of the Final Evaluation Findings.

Keelin Kuipers,
Deputy Director, Office for Coastal Management, National Ocean Service, National Oceanic and Atmospheric Administration.

[FR Doc. 2022-04209 Filed 2-28-22; 8:45 am]

BILLING CODE 3510-JE-P